DEPARTMENT OF AGRICULTURE

Food Safety and Inspection Service

[Docket No. FSIS-2015-0008]

Codex Alimentarius Commission: Meeting of the Codex Committee on Pesticide Residues (CCPR)

AGENCY: Office of the Under Secretary for Food Safety, USDA.

ACTION: Notice of public meeting and request for comments.

SUMMARY: The Office of the Under Secretary for Food Safety, U.S. Department of Agriculture (USDA), Food Safety and Inspection Service (FSIS), and the U.S. Environmental Protection Agency (EPA) are sponsoring a public meeting on March 16, 2015. The objective of the public meeting is to provide information and receive public comments on agenda items and draft United States (U.S.) positions to be discussed at the 47th Session of the Codex Committee on Pesticide Residues (CCPR) of the Codex Alimentarius Commission (Codex), taking place in Beijing, China, April 13-18, 2015. The Deputy Under Secretary for Food Safety and the EPA recognize the importance of providing interested parties the opportunity to obtain background information on the 47th Session of CCPR and to address items on the agenda.

DATES: The public meeting is scheduled for Monday, March 16, 2015, from 2:00-4:00 p.m.

ADDRESSES: The public meeting will take place at the U.S. Environmental Protection Agency (EPA), Room S-7100, One Potomac Yard South, 2777 South Crystal Drive, Arlington, VA 22202.

Documents related to the 47th Session of CCPR will be accessible on-line at the following address: http://www.codexalimentarius.org/meetings-reports/en/.

Barbara Madden, U.S. Delegate to the 47th Session of the CCPR, the EPA, and the USDA, invite interested parties to submit their comments electronically to the following email address: Madden.barbara@epa.gov.

Call-In Number:

If you wish to participate in the public meeting for the 47th Session of the CCPR by conference call on March 16, 2015, please use the call-in numbers and participant codes listed below:

United States Call-in Number: 1-866-299-3188

International Call-in Number: 1-706-758-1822

Participant Code: 7033056463#

Registration:

Attendees may register by emailing uscodex@fsis.usda.gov by March 13, 2015. Early registration is encouraged because it will expedite entry into the building. The meeting will be held in a Federal building, you should also bring photo identification and plan for adequate time to pass through security screening systems. Attendees that are not able to attend the meeting in-person but wish to participate may do so by phone.

For Further Information About the 47th Session of the CCPR Contact: Barbara Madden, Office of Pesticide Programs, U.S. Environmental Protection Agency, Ariel Rios Building, 1200 Pennsylvania Avenue NW., Washington, DC 20460, Phone: (703) 305-6463, Fax: (703) 305-6920, Email: madden.barbara@epa.gov.

For Further Information About the Public Meeting Contact: Marie Maratos, U.S. Codex Office, 1400 Independence Avenue SW., Room 4861, Washington, DC 20250, Phone: (202) 205-7760, Fax: (202) 720-3157, Email: Marie.Maratos@fsis.usda.gov.

SUPPLEMENTARY INFORMATION:

Background

Codex was established in 1963 by two United Nations organizations, the Food and Agriculture Organization (FAO) and the World Health Organization (WHO). Through adoption of food standards, codes of practice, and other guidelines developed by its committees, and by promoting their adoption and implementation by governments, Codex seeks to protect the health of consumers and ensure that fair practices are used in the food trade.

The CCPR is responsible for establishing maximum limits for pesticide residues in specific food items or in groups of food, establishing maximum limits for pesticide residues in certain animal feeding stuffs moving in international trade where this is justified for reasons of protection of human health, preparing priority lists of pesticides for evaluation by the Joint FAO/WHO Meeting on Pesticide Residues (JMPR), considering methods of sampling and analysis for the determination of pesticide residues in food and feed, considering other matters in relation to the safety of food and feed containing pesticide residues, and establishing maximum limits for environmental and industrial contaminants showing chemical or other similarity to pesticides in specific food items or groups of food.

The Committee is hosted by China.

Issues To Be Discussed at the Public Meeting

The following items on the agenda for the 47th Session of CCPR will be discussed during the public meeting:

• Matters referred to the committee by Codex and other subsidiary bodies

• Matters of interest arising from FAO and WHO

• Matters of interest arising from other international organizations

• Draft Maximum Residue Limits (MRLs) for pesticides

• Draft Revision to the Classification of Food and Feed (CFF) (vegetable commodity groups: Group 016—Roots and Tubers)

• Proposed draft revision to the CFF (vegetable commodity groups: Group 015—Pulses)

• Proposed draft MRL's for Pesticides

• Proposed draft Guidance on Performance criteria for methods of analysis for the determination of Pesticide residues

• Proposed draft revision to the CFF (vegetable commodity groups: Groups 011 Fruiting vegetables, cucurbits and Group 014 Legume vegetables)

• Proposed draft revision to the CFF—other commodity groups

• Proposed draft Table 2: Examples of Selection of Representative Commodities—Vegetable commodity groups and other commodity groups

• Establishment of Codex schedules and priority list of Pesticides for evaluation by JMPR

Each issue listed will be fully described in documents distributed, or to be distributed, by the Secretariat prior to the Committee meeting. Members of the public may access or request copies of these documents (see ADDRESSES).

Public Meeting

At the March 16, 2015, public meeting, draft U.S. positions on the agenda items will be described and discussed, and attendees will have the opportunity to pose questions and offer comments. Written comments may be offered at the meeting or sent to Barbara Madden, U.S. Delegate for the 47th Session of the CCPR (see ADDRESSES). Written comments should state that they relate to activities of the 47th Session of the CCPR.

Additional Public Notification

Public awareness of all segments of rulemaking and policy development is important. Consequently, FSIS will announce this Federal Register publication on-line through the FSIS Web page located at: http://www.fsis.usda.gov/federal-register.

FSIS also will make copies of this publication available through the FSIS Constituent Update, which is used to provide information regarding FSIS policies, procedures, regulations, Federal Register notices, FSIS public meetings, and other types of information that could affect or would be of interest to our constituents and stakeholders. The Update is available on the FSIS Web page. Through the Web page, FSIS is able to provide information to a much broader, more diverse audience. In addition, FSIS offers an email subscription service which provides automatic and customized access to selected food safety news and information. This service is available at: http://www.fsis.usda.gov/subscribe. Options range from recalls to export information, regulations, directives, and notices. Customers can add or delete subscriptions themselves, and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed on-line at http://www.ocio.usda.gov/sites/default/files/docs/2012/Complain_combined_6_8_12.pdf, or write a letter signed by you or your authorized representative.

Send your completed complaint form or letter to USDA by mail, fax, or email:

Mail

U.S. Department of Agriculture, Director, Office of Adjudication, 1400 Independence Avenue SW., Washington, DC 20250-9410.

Fax

(202) 690-7442.

Email

program.intake@usda.gov.

Persons with disabilities who require alternative means for communication (Braille, large print, audiotape, etc.), should contact USDA's TARGET Center at (202) 720-2600 (voice and TDD).

Done at Washington, DC on: February 19, 2015.
Marie Maratos,
Acting U.S. Manager for Codex Alimentarius.

[FR Doc. 2015-03732 Filed 2-23-15; 8:45 am]

BILLING CODE 3410-DM-P